DEPARTMENT OF LABOR

Occupational Safety and Health Administration

[Docket No. ICR-1218-0215(2003)]

Standards on Personal Protective Equipment (PPE) for Shipyard Employment (29 CFR part 1915, subpart I); Extension of the Office of Management and Budget's Approval of Information Collection (Paperwork) Requirements

AGENCY: Occupational Safety and Health Administration (OSHA), Labor.

ACTION: Request for comment.

SUMMARY: OSHA solicits comments concerning its proposal to decrease the existing burden-hour estimates, and to extend the Office of Management and Budget's (OMB) approval of the information-collection requirements contained in its Standards on Personal Protective Equipment (PPE) for Shipyard Employment (29 CFR part 1915, subpart I).¹ The Standards require employers to provide and ensure that each affected employee uses the appropriate personal protective equipment (PPE) for the eyes, face, head, extremities, torso, and respiratory system, including protective clothing, protective shields, protective barriers, personal fall-protection equipment, and life-saving equipment that meets the applicable provisions of this subpart whenever employees are exposed to hazards that require the use of PPE.

¹ Based on its assessment of the paperwork requirements contained in these Standards, the Agency estimates that the total burden hours decreased compared to its previous burden-hour estimate. Under this notice, OSHA is not proposing to revise the Standards' paperwork requirements, only to decrease the burden-hour estimates imposed by the existing paperwork requirements.

DATES: Comments must be submitted by the following dates:

Hard Copy: Your comments must be submitted (postmarked or received) by May 23, 2003.

Facsimile and electronic transmission: Your comments must be sent by May 23, 2003.

ADDRESSES: Submit written comments to the Docket Office, Docket No. ICR-1218-0215(2003), OSHA, U.S. Department of Labor, Room N-2625, 200 Constitution Avenue, NW., Washington, DC 20210; telephone: (202) 693-2350. Commenters may transmit written comments of 10 pages or less by facsimile to (202) 693-1648.

FOR FURTHER INFORMATION CONTACT: Theda Kenney, Directorate of Standards and Guidance, OSHA, U.S. Department of Labor, Room N-3609, 200 Constitution Avenue, NW., Washington, DC 20210; telephone (202) 693-2222. A copy of the Agency's Information Collection Request (ICR) supporting the need for the collections of information specified by the Standards on Personal Protective Equipment for Shipyard Employment is available for inspection and copying in the Docket Office, or by requesting a copy from Theda Kenney at (202) 693-2222, or Todd Owen at (202) 693-2444. For electronic copies of the ICR, contact OSHA on the Internet at http://www.osha.gov and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (44 U.S.C. 3506(c)(2)(A)). This program ensures that information is in the desired format, reporting burden (time and costs) is minimized, collection instruments are understandable, and OSHA's estimate of the information-collection burden is correct.

The collections of information in the standard are necessary for implementation of the requirements of the Standards. The Standards specify several paperwork requirements. The following sections describe the information-collection requirements, and who will use the information.

(A) Hazard Assessment And Equipment Selection (1915.152(b)). Paragraph 1915.152(b) requires the employer to assess work activities to determine whether there are hazards present, or likely to be present, which necessitate the employee's use of PPE. If such hazards are present, or likely to be present, the employer must: (1) Select the type of PPE that will protect the affected employee from the hazards identified in the occupational-hazard assessment; (2) communicate selection decisions to affected employees; (3) select PPE that properly fits each affected employee; and (4) verify that the required occupational hazard assessment has been performed through a document that contains the following information: Occupation, the date(s) of the hazard assessment, and the name of the person performing the hazard assessment.

(B) Verification That Hazard Assessment Has Been Performed (1915.152(d)(4)). Paragraph 1915.152(e)(4) requires that the employer verify that each affected employee has received the PPE training through a document that contains the following information: Name of each employee trained, the date(s) of training, and the type of training the employee received.

II. Special Issues for Comment

OSHA has a particular interest in comments on the following issues:

• Whether the proposed information-collection requirements are necessary for the proper performance of the Agency's functions to protect workers, including whether the information is useful;

• The accuracy of OSHA's estimate of the burden (time and costs) of the information-collection requirements, including the validity of the methodology and assumptions used;

• The quality, utility, and clarity of the information collected; and

• Ways to minimize the burden on employers who must comply; for example, by using automated or other technological information-collection and transmission techniques.

III. Proposed Actions

OSHA proposes to decrease the existing burden-hour estimates, and to extend OMB's approval of the collection-of-information requirements specified in the Standards on Personal Protective Equipment (PPE) for Shipyard Employment (29 CFR part 1915, subpart I). The net reduction of 213 hours results from a 292-hour increase to account for the 165 newly identified firms to conduct an initial hazard assessment, and a reduction of 505 hours to reflect that employers do not spend 2 minutes per employee disclosing training verification records to OSHA; rather employers spend 2 minutes per inspection disclosing the necessary training verification records.

The Agency will summarize the comments submitted in response to this notice, and will include this summary in its request to OMB to extend the approval of these information-collection requirements.

Type of Review: Extension of a currently approved information-collection requirement.

Title: Personal Protective Equipment (PPE) for Shipyard Employment (29 CFR part 1915, subpart I).

OMB Number: 1218-0215.

Affected Public: Business or other for-profit; not-for-profit institutions; Federal government; State, local or tribal Governments.

Number of Respondents: 665.

Frequency of Recordkeeping: On occasion.

Average Time Per Response: Varies from one minute (.02 hour) to maintain training documentation to 6 hours to perform a hazard assessment.

Total Annual Hours Requested: 2,042.

Estimated Cost (Operation and Maintenance): $0.

IV. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on March 18, 2003.
John L. Henshaw.
Assistant Secretary of Labor.

[FR Doc. 03-6943 Filed 3-21-03; 8:45 am]

BILLING CODE 4510-26-M